DEPARTMENT OF ENERGY

Federal Energy Regulatory Commission

Combined Notice of Filings #1

Take notice that the Commission received the following electric rate filings:

Docket Numbers: ER11-4625-006; ER10-2861-005; ER10-2862-006; ER10-2866-005; ER10-2867-005; ER11-3634-006; ER13-1504-006; ER13-2169-005.

Applicants: Colton Power L.P., Fountain Valley Power, L.L.C., Goal Line L.P., Harbor Cogeneration Company, LLC, KES Kingsburg, L.P., SWG Arapahoe, LLC, SWG Colorado, LLC, Valencia Power, LLC.

Description: Notice of Non-Material Change in Status of Colton Power L.P., et. al.

Filed Date: 3/1/18.

Accession Number: 20180301-5289.

Comments Due: 5 p.m. ET 3/22/18.

Docket Numbers: ER14-2327-002; ER14-2328-002; ER14-2329-002; ER14-2330-002.

Applicants: Entergy Services, Inc., Entergy Nuclear Generation Company, Entergy Nuclear Indian Point 2, LLC, Entergy Nuclear Indian Point 3, LLC, Entergy Nuclear Power Marketing, LLC.

Description: Supplement to June 29, 2017 Triennial Market Power Update for the Northeast Region of the Entergy Northeast MBR Utilities.

Filed Date: 3/1/18.

Accession Number: 20180301-5290.

Comments Due: 5 p.m. ET 3/22/18.

Docket Numbers: ER18-947-000.

Applicants: Nevada Power Company.

Description: § 205(d) Rate Filing: NPC RS 161/APS RS 152 Amendment 1 to Agr. to be effective 5/1/2018.

Filed Date: 3/1/18.

Accession Number: 20180301-5280.

Comments Due: 5 p.m. ET 3/22/18.

Docket Numbers: ER18-948-000.

Applicants: PJM Interconnection, L.L.C.

Description: § 205(d) Rate Filing: Original ISA, SA No. 4940, Queue No. AA2-178 to be effective 2/2/2018.

Filed Date: 3/5/18.

Accession Number: 20180305-5000.

Comments Due: 5 p.m. ET 3/26/18.

Docket Numbers: ER18-949-000.

Applicants: Allegheny Energy Supply Company, LLC.

Description: Compliance filing: compliance 2018 to be effective 12/5/2017.

Filed Date: 3/5/18.

Accession Number: 20180305-5002.

Comments Due: 5 p.m. ET 3/26/18.

Docket Numbers: ER18-950-000.

Applicants: FirstEnergy Solutions Corp.

Description: Compliance filing: compliance 2018 to be effective 12/5/2017.

Filed Date: 3/5/18.

Accession Number: 20180305-5003.

Comments Due: 5 p.m. ET 3/26/18.

Docket Numbers: ER18-951-000.

Applicants: Jersey Central Power & Light Company.

Description: Compliance filing: compliance 2018 to be effective 12/5/2017.

Filed Date: 3/5/18.

Accession Number: 20180305-5004.

Comments Due: 5 p.m. ET 3/26/18.

Docket Numbers: ER18-952-000.

Applicants: Monongahela Power Company.

Description: Compliance filing: compliance 2018 to be effective 12/5/2017.

Filed Date: 3/5/18.

Accession Number: 20180305-5005.

Comments Due: 5 p.m. ET 3/26/18.

Docket Numbers: ER18-953-000.

Applicants: Pennsylvania Electric Company.

Description: Compliance filing: compliance 2018 to be effective 12/5/2017.

Filed Date: 3/5/18.

Accession Number: 20180305-5006.

Comments Due: 5 p.m. ET 3/26/18.

Docket Numbers: ER18-954-000.

Applicants: Appalachian Power Company.

Description: § 205(d) Rate Filing: OATT—Revise Tax Rate & Attachment K, AEPTX Rate Update to be effective 12/31/9998.

Filed Date: 3/5/18.

Accession Number: 20180305-5007.

Comments Due: 5 p.m. ET 3/26/18.

Docket Numbers: ER18-955-000.

Applicants: NorthWestern Corporation.

Description: § 205(d) Rate Filing: SA 642 6th Rev—NITSA with General Mills Operations LLC to be effective 5/1/2018.

Filed Date: 3/5/18.

Accession Number: 20180305-5008.

Comments Due: 5 p.m. ET 3/26/18.

Docket Numbers: ER18-956-000.

Applicants: PJM Interconnection, L.L.C.

Description: § 205(d) Rate Filing: Amendment to ISA SA No. 4525; Queue No. Z2-089/AA2-099 (Consent to Assign) to be effective 8/8/2016.

Filed Date: 3/5/18.

Accession Number: 20180305-5017.

Comments Due: 5 p.m. ET 3/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2018.
Nathaniel J. Davis, Sr.,
Deputy Secretary.

[FR Doc. 2018-04737 Filed 3-8-18; 8:45 am]

BILLING CODE 6717-01-P